DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of non-domestic Technologie Alpine De Securite (TAS) Gazex® Avalanche Exploder in the State of Utah and TAS O'Bell Avalanche Initiating Blaster for the State of Wyoming.

DATES: The effective date of the waiver is November 6, 2012.

FOR FURTHER INFORMATION CONTACT: For questions about this notice, please contact Mr. Gerald Yakowenko, FHWA Office of Program Administration, (202) 366-1562, or via email at gerald.yakowenko@dot.gov. For legal questions, please contact Mr. Michael Harkins, FHWA Office of the Chief Counsel, (202) 366-4928, or via email at michael.harkins@dot.gov. Office hours for the FHWA are from 8:00 a.m. to 4:30 p.m., e.t., Monday through Friday, except Federal holidays.

SUPPLEMENTARY INFORMATION:

Electronic Access

An electronic copy of this document may be downloaded from the

Federal Register's home page at: http://www.archives.gov and the

Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use non-domestic TAS Gazex® Avalanche Exploder for the State of Utah and TAS O'Bell Avalanche Initiating Blaster for the State of Wyoming.

In accordance with Title I, Division C, section 122 of the “Consolidated and Further Continuing Appropriations Act, 2012” (Pub. L. 112-55), the FHWA published a notice of intent to issue a waiver on its Web site for TAS Gazex® Avalanche Exploder for the State of Utah (http://www.fhwa.dot.gov/construction/contracts/waivers.cfm?id=69) on March 6, and TAS O'Bell Avalanche Initiating Blaster for State of Wyoming. (http://www.fhwa.dot.gov/construction/contracts/waivers.cfm?id=71) on March 22. The FHWA received two comments in response to the Utah publication, and no comment in response to Wyoming publication. Both comments received in response to the Utah publication urged the use of domestic manufacturers, when possible, but did not provide any suggested manufacturers. During the 15-day comment periods, the FHWA conducted additional nationwide review to locate potential domestic manufacturers of TAS Gazex® Avalanche Exploder and TAS O'Bell Avalanche Initiating Blaster. The National Institute of Standards and Technology-Manufacturing Extension Partnership MEP also conducted supplier scouting on the Avalanche Initiating Blasters and reported that they could not find domestic matching items. Based on all the information available to the agency, the FHWA concludes that there are no domestic manufacturers of TAS Gazex® Avalanche Exploder for the State of Utah and TAS O'Bell Avalanche Initiating Blaster for the State of Wyoming.

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the Utah and Wyoming waiver pages noted above.

Authority: 23 U.S.C. 313; Pub. L. 110-161, 23 CFR 635.410.

Issued on: October 25, 2012.
Victor M. Mendez,
Administrator.

[FR Doc. 2012-26797 Filed 10-30-12; 8:45 am]

BILLING CODE 4910-22-P